DEPARTMENT OF TRANSPORTATION

Office of the Secretary

Aviation Proceedings, Agreements Filed the Week Ending November 24, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-2640.9.

Date Filed: November 20, 2006.

Parties: Members of the International Air Transport Association.

Subject: TC2 Within Europe (Memo 0646), Expedited Resolutions Geneva, October 16-17, 2006. Intended effective date: December 4, 2006.

Docket Number: OST-2006-26434.

Date Filed: November 21, 2006.

Parties: Members of the International Air Transport Association.

Subject: TC31 TC3-Central America, South America, Expedited Resolution 002f, Bangkok, October 23-28, 2006, (Memo 0388), Intended effective date: January 15, 2007.

Docket Number: OST-2006-26453.

Date Filed: November 23, 2006.

Parties: Members of the International Air Transport Association.

Subject: TC2 Within Europe, Expedited Resolutions, Geneva, October 16-17, 2006, (Memo PTC2 EUR 0647), TC2 Europe except between points in the ECAA, Expedited Resolutions, Geneva, October 16-17, 2006, Implementation Date: March 1, 2007 (Memo PTC2 Eur 0649), Intended effective date: December 10, 2006

Docket Number: OST-2006-26454.

Date Filed: November 24, 2006.

Parties: Members of the International Air Transport Association,

Subject: Mail Vote 521 Adoption—Resolutions (Memo 0645). Intended effective date: December 1, 2006.

Docket Number: OST-2006-26455.

Date Filed: November 24, 2006.

Parties: Members of the International Air Transport Association.

Subject: PSC/RESO/133 dated November 17, 2006, Expedited Resolutions & Recommended Practice, Intended effective date: January 1, 2007 and March 1, 2007.

Renee V. Wright,
Program Manager, Docket Operations, Federal Register Liaison.

[FR Doc. E6-21180 Filed 12-12-06; 8:45 am]

BILLING CODE 4910-9X-P